NUCLEAR REGULATORY COMMISSION

Biweekly Notice; Applications and Amendments Facility Operating Licenses Involving No Significant Hazards Considerations; Correction

AGENCY: Nuclear Regulatory Commission.

ACTION: Notice of issuance; correction.

SUMMARY: This document corrects an entry in the biweekly notice appearing in the Federal Register on January 20, 2004 (69 FR 2735). The corrected information considers issuance of an amendment to Facility Operating License No. NPF-16, issued to Florida Power and Light Company, St. Lucie Plant, Unit No. 2 (Docket No. 50-389). This action is necessary to include text that was missing. This notice is being republished in its entirety.

FOR FURTHER INFORMATION CONTACT: Beverly A. Clayton, Office of Nuclear Reactor Regulation, Nuclear Regulatory Commission, Washington, DC 20555-0001, telephone: 301-415-3475, e-mail: bac2@nrc.gov.

SUPPLEMENTARY INFORMATION: On page 2743, near the bottom of the second column the notice starting with “Florida Power and Light,” and ending in the third column with “NRC Section Chief: Allen G. Howe,” should read as follows:

Florida Power and Light Company, Docket No. 50-389, St. Lucie Plant, Unit No. 2, St. Lucie County, Florida

Date of amendment request: December 2, 2003.

Description of amendment request: The proposed amendment would revise the Technical Specifications to allow a reduction in the minimum reactor coolant system flow, corresponding to an increase in the steam generator tube plugging limit from 15 percent to 30 percent.

Basis for proposed no significant hazards consideration determination: As required by 10 CFR 50.91(a), the licensee has provided its analysis of the issue of no significant hazards consideration, which is presented below:

(1) Operation of the facility in accordance with the proposed amendment would not involve a significant increase in the probability or consequences of an accident previously evaluated.

None of the proposed changes to the Technical Specifications nor the reload methodology result in operation of the facility that would adversely affect the initiation of any accident previously evaluated. There is no adverse impact on any plant system. All systems will function as designed, and all performance requirements for these systems remain acceptable. The comprehensive engineering effort, performed to support the proposed changes, has included evaluations or analyses of all the accident analyses including the effects of ZIRLO™ fuel rod cladding. The DNBR and setpoint analyses have verified that the accident analyses criteria continue to be met.

Dose consequences acceptance criteria have been verified to be met for all the events.

Therefore, the proposed changes do not significantly increase the probability or consequences of an accident previously evaluated.

(2) Operation of the facility in accordance with the proposed amendments would not create the possibility of a new or different kind of accident from any previously evaluated.

No new accident scenarios, failure mechanisms or limiting single failures are introduced as a result of the proposed changes to the Technical Specifications and the reload methodology. The proposed changes have no adverse effects on any safety-related systems and do not challenge the performance or integrity of any safety-related system. The DNBR limits and trip setpoints associated with the respective reactor protection system functions have verified that the accident analyses criteria continue to be met.

Therefore, this amendment will not create the possibility of a new or different kind of accident from any accident previously evaluated.

(3) Operation of the facility in accordance with the proposed amendments would not involve a significant reduction in a margin of safety.

The safety analyses of all design basis accidents, supporting the proposed changes to the Technical Specifications and the reload methodology, continue to meet the applicable acceptance criteria with respect to the radiological consequences, specified acceptable fuel design limits (SAFDLs), primary and secondary overpressurization, and 10 CFR 50.46 requirements. The DNBR and the setpoint analyses are performed on a cycle-specific basis to verify that the reactor protection system functions continue to provide adequate protection against fuel design limits. Revised steam line break and LOCA mass and energy releases were determined and used to confirm the overall containment response remains acceptable. The performance requirements for all systems have been verified to be acceptable from design basis accidents' consideration. The proposed amendment, therefore, will not involve a significant reduction in the margin of safety.

The NRC staff has reviewed the licensee's analysis and, based on this review, it appears that the three standards of § 50.92(c) are satisfied. Therefore, the NRC staff proposes to determine that the amendment request involves no significant hazards consideration.

Attorney for licensee: M.S. Ross, Attorney, Florida Power & Light, P.O. Box 14000, Juno Beach, Florida 33408-0420.

NRC Section Chief: Allen G. Howe.

Dated in Rockville, Maryland, this 12th day of March, 2004.
For the U.S. Nuclear Regulatory Commission.
Michael T. Lesar,
Chief, Rules and Directives Branch, Division of Administrative Services, Office of Administration.

[FR Doc. 04-6081 Filed 3-17-04; 8:45 am]

BILLING CODE 7590-01-P